SECURITIES AND EXCHANGE COMMISSION

[SEC File No. 270-029, OMB Control No. 3235-0037]

Proposed Collection; Comment Request; Extension: Rule 17f-1(c) and Form X-17F-1A

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 17f-1(c) (17 CFR 240.17f-1(c) and Form X-17F-1A (17 CFR 249.100) under the Securities Exchange Act of 1934 (15 U.S.C. 78a et seq.). The Commission plans to submit this existing collection of information to the Office of Management and Budget (“OMB”) for extension and approval.

Rule 17f-1(c) requires approximately 9,500 entities in the securities industry to report lost, stolen, missing, or counterfeit securities certificates to the Commission or its designee, to a registered transfer agent for the issue, and, when criminal activity is suspected, to the Federal Bureau of Investigation. Such entities are required to use Form X-17F-1A to make such reports. Filing these reports fulfills a statutory requirement that reporting institutions report and inquire about missing, lost, counterfeit, or stolen securities. Since these reports are compiled in a central database, the rule facilitates reporting institutions to access the database that stores information for the Lost and Stolen Securities Program (“Program”).

We estimate that the total reporting burden for Regulation 17f-1(c), as adopted, for all respondents is approximately 2,937.5 hours. These burdens consist of a one-time burden in connection with Accenture Federal Services LLC (“Accenture”) becoming the new Program operator of approximately 2,000 hours for set-up, and annual burdens thereafter of approximately 25 hours for maintenance and 287.5 hours for reporting. [2,000 + 3(25 + 287.5) = 2,937.5 hours]

• The Commission estimates that approximately 50 reporting institutions will be subject to this one-time burden, which corresponds to 40 hours for each of the applicable reporting institutions. Further, the Commission estimates that updates in the applicable reporting institutions' systems to maintain this connectivity will impose an aggregate ongoing annualized burden of 25 burden hours, which corresponds to 30 minutes for each of the applicable reporting institutions. Accordingly, this estimated burden to establish and maintain connectivity with Accenture over three years results in an aggregate burden of 691.67 hours per year or 13.83 hours per applicable reporting institution per year. [(50 Respondents × 1 Responses over 3 years) = 50 × (40 hour) = 2,000 hours/3 years = 666.67 hours per year; (50 Respondents × 1 Responses) = 50 × (.5 hours) = 25 hours; 666.67 hours + 25 hours = 691.67 hours; 691.67 hours/50 Respondents = 13.83 hours/Respondent].

• In addition, we estimate that approximately 115 reporting institutions will submit a report on average 30 times each year. The staff estimates that the average amount of time necessary for each reporting institution to comply with the Rule 17f-1(c) and Form X-17F-1A is five minutes. As a result, the total hourly burden for the periodic reporting burden under Rule 17f-1(c) is approximately 287.5 hours [(115 Respondents × 30 Responses) × (5 minutes/60 minutes/hour)].

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by November 25, 2024.

An agency may not conduct or sponsor, and a person is not required to respond to, a collection of information under the PRA unless it displays a currently valid OMB control number.

Please direct your written comments to: Austin Gerig, Director/Chief Data Officer, Securities and Exchange Commission, c/o Oluwaseun Ajayi, 100 F Street NE, Washington, DC 20549, or send an email to: PRA_Mailbox@sec.gov.

Dated: September 23, 2024.
Vanessa A. Countryman,
Secretary.

[FR Doc. 2024-22047 Filed 9-25-24; 8:45 am]

BILLING CODE 8011-01-P